FEDERAL RETIREMENT THRIFT INVESTMENT BOARD

Sunshine Act Meeting Notice

TIME AND DATE: 9 a.m. (EST); January 16, 2007.

PLACE: 4th Floor Conference Room, 1250 H Street, NW., Washington, DC.

STATUS: Parts will be open to the public and parts closed to the public.

MATTERS TO BE CONSIDERED:

Parts Open to the Public

1. Approval of the minutes of the December 18, 2006 Board member meeting.

2. Thrift Savings Plan activity report by the Executive Director.

3. Quarterly Reports.

a. Investment Policy Review.

b. Vendor Financial Reports.

4. Participant Survey Update.

Parts Closed to the Public

5. Personnel.

6. Security.

CONTACT PERSON FOR MORE INFORMATION: Thomas J. Trabucco, Director, Office of External Affairs, (202) 942-1640.

Dated: January 5, 2006.
Thomas K. Emswiler,
Secretary to the Board, Federal Retirement Thrift Investment Board.

[FR Doc. 07-54 Filed 1-5-07; 3:10 pm]

BILLING CODE 6760-01-P